FEDERAL COMMUNICATIONS COMMISSION

47 CFR Part 73

[DA 05-2718; MB Docket No. 05-292; RM-11281]

Radio Broadcasting Services; Churchville and Keswick, VA and Marlinton, WV

AGENCY: Federal Communications Commission.

ACTION: Proposed rule.

SUMMARY: This document requests comments on a petition for rule making filed by Force 5 Communications, LLC) (Petitioner”), licensee of Station WBOP(FM) (“WBOP”), Channel 292B1, Churchville, Virginia. Petitioner requests that the Commission allot Channel 292A to Marlinton, West Virginia. It also proposes to reallot Channel 292B1 from Churchville to Keswick, Virginia, substitute Channel 291A for Channel 292B1 at Keswick, and modify Station WBOP's license accordingly. The coordinates for Channel 292A at Marlinton, West Virginia are 38-13-24 NL and 80-05-41 WL. The coordinates for Channel 291A at Keswick, Virginia, are 38-01-48 NL and 78-22-55 WL, with a site restriction of 2.1 kilometers (1.3 miles) northwest of Keswick.

DATES: Comments must be filed on or before December 8, 2005, and reply comments on or before December 23, 2005.

ADDRESSES: Secretary, Federal Communications Commission, 445 12th Street, SW., Room TW-A325, Washington, DC 20554. In addition to filing comments with the FCC, interested parties should serve Petitioner's counsel, as follows: David G. O'Neil, Esq., Rini Coran, P.C.; 1501 M Street, NW., Suite 1150; Washington, DC 20005.

FOR FURTHER INFORMATION CONTACT: R. Barthen Gorman, Media Bureau, (202) 418-2180.

SUPPLEMENTARY INFORMATION: This is a synopsis of the Commission's Notice of Proposed Rule Making, MB Docket No. 05-292, adopted October 12, 2005 and released October 17, 2005. The full text of this Commission decision is available for inspection and copying during regular business hours in the FCC's Reference Information Center at Portals II, 445 12th Street, SW., CY-A257, Washington, DC, 20554. This document may also be purchased from the Commission's duplicating contractors, Best Copy and Printing, Inc., Portals II, 445 12th Street, SW., Room CY-B402, Washington, DC, 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (C)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Virginia, is amended by removing Churchville, Channel 292B1 and by adding Keswick, Channel 291A.

3. Section 73.202(b), the Table of FM Allotments under West Virginia, is amended by adding Marlinton, Channel 292A.

Federal Communications Commission.
John A. Karousos,
Assistant Chief, Audio Division, Media Bureau.

[FR Doc. 05-21557 Filed 11-1-05; 8:45 am]

BILLING CODE 6712-01-P